DEPARTMENT OF ENERGY

Federal Energy Regulatory Commission

Combined Notice of Filings #1

Take notice that the Commission received the following electric corporate filings:

Docket Numbers: EC12-33-000.

Applicants: Ridgeline Alternative Energy, LLC.

Description: Joint Application of Ridgeline Alternative Energy, LLC; Rockland Wind Farm LLC; and Atlantic Power Corporation.

Filed Date: 11/17/11.

Accession Number: 20111117-5164.

Comments Due: 5 p.m. ET 12/8/11.

Docket Numbers: EC12-34-000.

Applicants: Bishop Hill Energy LLC.

Description: Application for Authorization under Section 203 of the Federal Power Act and Request for Waivers and Expedited Action of Bishop Hill Energy LLC.

Filed Date: 11/18/11.

Accession Number: 20111118-5093.

Comments Due: 5 p.m. ET 12/9/11.

Take notice that the Commission received the following electric rate filings:

Docket Numbers: ER11-3876-003; ER11-2044-004; ER10-2611-002.

Applicants: MidAmerican Energy Company, Cordova Energy Company LLC, Saranac Power Partners, L.P.

Description: Triennial market update for Central Region of MidAmerican Energy Company, et al.

Filed Date: 11/17/11.

Accession Number: 20111117-5170.

Comments Due: 5 p.m. ET 12/8/11.

Docket Numbers: ER12-430-000.

Applicants: Southwest Power Pool, Inc.

Description: Revisions to Attachment AE—Review and Assessment of Resource Plans to be effective 1/17/2012.

Filed Date: 11/17/11.

Accession Number: 20111117-5128.

Comments Due: 5 p.m. ET 12/8/11.

Docket Numbers: ER12-431-000.

Applicants: NedPower Mount Storm, LLC.

Description: Compliance Filing—Section X and XI to be effective 11/17/2011.

Filed Date: 11/17/11.

Accession Number: 20111117-5160.

Comments Due: 5 p.m. ET 12/8/11.

Docket Numbers: ER12-432-000.

Applicants: Puget Sound Energy, Inc.

Description: Vantage Wind LGIA to be effective 10/1/2011.

Filed Date: 11/17/11.

Accession Number: 20111117-5161.

Comments Due: 5 p.m. ET 12/8/11.

Docket Numbers: ER12-433-000.

Applicants: Energy Exchange Direct, LLC.

Description: Energy Exchange Direct, LLC Electric Tariff Original Volume No 1 to be effective 12/1/2011.

Filed Date: 11/18/11.

Accession Number: 20111118-5000.

Comments Due: 5 p.m. ET 12/9/11.

Docket Numbers: ER12-434-000.

Applicants: MidAmerican Energy Company.

Description: 2nd Revised Service Agreement 385—CB4 Transmission to be effective 11/1/2011.

Filed Date: 11/18/11.

Accession Number: 20111118-5037.

Comments Due: 5 p.m. ET 12/9/11.

Docket Numbers: ER12-435-000.

Applicants: Public Service Company of Colorado.

Description: 20111118_JOA Changes to be effective 1/17/2012.

Filed Date: 11/18/11.

Accession Number: 20111118-5102.

Comments Due: 5 p.m. ET 12/9/11.

Docket Numbers: ER12-436-000.

Applicants: Public Service Company of Colorado.

Description: 2011-11-18_PSCo-SPS-Lamar-Tie Rate-Filing to be effective 1/17/2012.

Filed Date: 11/18/11.

Accession Number: 20111118-5106.

Comments Due: 5 p.m. ET 12/9/11.

Docket Numbers: ER12-437-000.

Applicants: Northern States Power Company, a Wisconsin corporation.

Description: 20111118_JOA COC Filing to be effective 1/17/2012.

Filed Date: 11/18/11.

Accession Number: 20111118-5116.

Comments Due: 5 p.m. ET 12/9/11.

Docket Numbers: ER12-438-000.

Applicants: Northern States Power Company, a Minnesota corporation.

Description: 20111118_JOA COC Filing to be effective 1/17/2012.

Filed Date: 11/18/11.

Accession Number: 20111118-5117.

Comments Due: 5 p.m. ET 12/9/11.

Docket Numbers: ER12-439-000.

Applicants: Southwestern Public Service Company.

Description: 20111118_JOA COC Filing to be effective 1/17/2012.

Filed Date: 11/18/11.

Accession Number: 20111118-5119.

Comments Due: 5 p.m. ET 12/9/11.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 18, 2011.
Nathaniel J. Davis, Sr.,
Deputy Secretary.

[FR Doc. 2011-30702 Filed 11-28-11; 8:45 am]

BILLING CODE 6717-01-P